DEPARTMENT OF ENERGY

Federal Energy Regulatory Commission

Combined Notice of Filings

Take notice that the Commission has received the following Natural Gas Pipeline Rate and Refund Report filings:

Filings Instituting Proceedings

Docket Numbers: RP19-1041-002.

Applicants: B-R Pipeline Company.

Description: Compliance filing Errata to Order No. 587-Y Second Complaince Filing to be effective 8/1/2019.

Filed Date: 10/16/19.

Accession Number: 20191016-5057.

Comments Due: 5 p.m. ET 10/28/19.

Docket Numbers: RP19-1523-002.

Applicants: Panhandle Eastern Pipe Line Company, LP.

Description: Compliance filing Compliance with RP19-1523 Rate Case to be effective 3/1/2020.

Filed Date: 10/16/19.

Accession Number: 20191016-5031.

Comments Due: 5 p.m. ET 10/28/19.

Docket Numbers: RP20-61-001.

Applicants: Rockies Express Pipeline LLC.

Description: Tariff Amendment: Supplement to RP20-61 to be effective 12/1/2019.

Filed Date: 10/16/19.

Accession Number: 20191016-5027.

Comments Due: 5 p.m. ET 10/28/19.

Docket Numbers: RP20-66-000.

Applicants: Midcontinent Express Pipeline LLC.

Description: § 4(d) Rate Filing: Fuel Tracker Filing 10/16/19 to be effective 12/1/2019.

Filed Date: 10/16/19.

Accession Number: 20191016-5026.

Comments Due: 5 p.m. ET 10/28/19.

Docket Numbers: RP20-67-000.

Applicants: Algonquin Gas Transmission, LLC.

Description: § 4(d) Rate Filing: GT&C Section 37—Lateral Interconnect Flexibility to be effective 11/15/2019.

Filed Date: 10/16/19.

Accession Number: 20191016-5028.

Comments Due: 5 p.m. ET 10/28/19.

Docket Numbers: RP20-68-000.

Applicants: Texas Eastern Transmission, LP.

Description: § 4(d) Rate Filing: Negotiated Rate—Piedmont 910473 eff 11-1-19 to be effective 11/1/2019.

Filed Date: 10/16/19.

Accession Number: 20191016-5045.

Comments Due: 5 p.m. ET 10/28/19.

Docket Numbers: RP20-69-000.

Applicants: Texas Eastern Transmission, LP.

Description: Compliance filing TETLP OFO November 2019 Penalty Disbursement Report to be effective N/A.

Filed Date: 10/16/19.

Accession Number: 20191016-5064.

Comments Due: 5 p.m. ET 10/28/19.

Docket Numbers: RP20-70-000.

Applicants: Spire STL Pipeline LLC.

Description: § 4(d) Rate Filing: Spire STL Non-Conforming and NRA Filing to be effective 11/15/2019.

Filed Date: 10/16/19.

Accession Number: 20191016-5092.

Comments Due: 5 p.m. ET 10/28/19.

Docket Numbers: RP20-71-000.

Applicants: Eastern Shore Natural Gas Company.

Description: § 4(d) Rate Filing: Revise Gas Quality Specs for RNG to be effective 11/1/2019.

Filed Date: 10/16/19.

Accession Number: 20191016-5196.

Comments Due: 5 p.m. ET 10/28/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2019.
Kimberly D. Bose,
Secretary.

[FR Doc. 2019-23094 Filed 10-22-19; 8:45 am]

BILLING CODE 6717-01-P